DEPARTMENT OF HEALTH AND HUMAN SERVICES

Administration for Children and Families

Submission for OMB Review; Office of Refugee Resettlement Annual Survey of Refugees (Office of Management and Budget #0970-0033)

AGENCY: Office of Refugee Resettlement, Administration for Children and Families, United States Department of Health and Human Services.

ACTION: Request for public comments.

SUMMARY: The Administration for Children and Families (ACF) within the U.S. Department of Health and Human Services seeks an update to the existing data collection for the Annual Survey of Refugees. The Annual Survey of Refugees is a yearly sample survey of refugee households entering the U.S. in the previous 5 fiscal years. The requested update is based upon results of a multi-year effort in instrument redesign and field testing. ACF estimates the proposed changes will increase response burden from 48 to 50 minutes per respondent.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Data from the Annual Survey of Refugees are used to meet the Office of Refugee Resettlement's (ORR) Congressional reporting requirements, as set forth in the Refugee Act of 1980 (section 413(a) of the Immigration and Nationality Act). ORR makes survey findings available to the general public and uses findings for the purposes of program planning, policy-making, and budgeting. The requested update reflects changes to the survey instrument to: enhance ORR's understanding of refugees' resettlement experiences; streamline the collection of household-level information; and improve data reliability and validity. As a result of these changes, the estimated time to respond was updated from 48 to 50 minutes.

Respondents: The Annual Survey of Refugees secures a nationally representative sample of refugee households arriving in the United States in the previous 5 fiscal years.

Annual Burden Estimates
Instrument | Total number of respondents | Total number of responses per respondent | Average burden hours per response | Total burden hours | Annual burden hours
Introduction Letter and Postcard | 4,500 | 1 | .05 | 225 | 75
ORR-9 Annual Survey of Refugees | 4,500 | 1 | .83 | 3,735 | 1,245

Estimated Total Annual Burden Hours: 1,320.

Authority: Sec. 413. [8 U.S.C. 1523].

Mary B. Jones,
ACF/OPRE Certifying Officer.

[FR Doc. 2023-20544 Filed 9-21-23; 8:45 am]

BILLING CODE 4184-46-P